DEPARTMENT OF ENERGY

Federal Energy Regulatory Commission

[Docket No. RP01-267-000]

Northern Border Pipeline Company; Notice of Proposed Changes in FERC Gas Tariff

March 7, 2001.

Take notice that on March 1, 2001, Northern Border Pipeline Company (Northern Border) tendered for filing to become part of its FERC Gas Tariff, First Revised Volume No. 1, the following tariff sheets to become effective April 1, 2001:

Second Revised Sheet Number 1

First Revised Sheet Number 98

Third Revised Sheet Number 250A

Original Sheet Number 178

Original Sheet Number 179

Fourth Revised Sheet Number 251

Sheet Numbers 182-199

Second Revised Sheet Number 203

Third Revised Sheet Number 266

Second Revised Sheet Number 214A

Original Sheet Number 427

Original Sheet Number 428

Original Sheet Number 234A

Original Sheet Number 429B

Fifth Revised Sheet Number 235

Sheet Numbers 165-176

Original Sheet Number 177

Original Sheet Number 250A.01

Original Sheet Number 180

Original Sheet Number 181

Fourth Revised Sheet Number 253

Third Revised Sheet Number 212

Original Sheet Number 266A

Original Sheet Number 426

Sixth Revised Sheet Number 215

Original Sheet Number 429

Original Sheet Number 429A

Northern Border states that the purpose of this filing is to implement a new firm backhaul transportation service under Rate Schedule T-1B. In addition, Northern Border is proposing to revise certain currently effective tariff sheets to incorporate the proposed T-1B service.

Northern Border states that it has served a copy of the filing upon all of its contracted shippers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at

http://www.ferc.fed.us/efi/doorbell.htm.

David P. Boergers,
Secretary.

[FR Doc. 01-6156 Filed 3-12-01; 8:45 am]

BILLING CODE 6717-01-M